FEDERAL TRADE COMMISSION

Agency Information Collection Activities; Reinstatement of Existing Collection; Comment Request

AGENCY: Federal Trade Commission (Commission or FTC).

ACTION: Notice.

SUMMARY: The FTC intends to conduct a survey of consumers to advance its understanding of the incidence of identity theft (“ID Theft”) and to allow the FTC to better serve the people who experience it and the law enforcement agencies that investigate and prosecute it. The survey is a follow-up to the FTC's ID Theft Survey conducted in March 2003 and released in September 2003. Before gathering this information, the FTC is seeking public comments on its proposed consumer research. Comments will be considered before the FTC submits a request for Office of Management and Budget (OMB) review under the Paperwork Reduction Act (PRA), 44 U.S.C. 3501-3520.

DATES: Comments must be received on or before October 24, 2005.

ADDRESSES: Interested parties are invited to submit written comments. Comments should refer to “ID Theft Survey: FTC File No. P034303” to facilitate the organization of comments. A comment filed in paper form should include this reference both in the text and on the envelope and should be mailed or delivered, with two complete copies, to the following address: Federal Trade Commission/Office of the Secretary, Room H-135 (Annex E), 600 Pennsylvania Avenue, NW., Washington, DC 20580. Because paper mail in the Washington area and at the Commission is subject to delay, please consider submitting your comments in electronic form, as prescribed below. However, if the comment contains any material for which confidential treatment is requested, it must be filed in paper form, and the first page of the document must be clearly labeled “Confidential.” ¹ The FTC is requesting that any comment filed in paper form be sent by courier or overnight service, if possible.

¹ Commission Rule 4.2(d), 16 CFR 4.2(d). The comment must be accompanied by an explicit request for confidential treatment, including the factual and legal basis for the request, and must identify the specific portions of the comment to be withheld from the public record. The request will be granted or denied by the Commission's General Counsel, consistent with applicable law and the public interest. See Commission Rule 4.9(c), 16 CFR 4.9(c).

Comments filed in electronic form should be submitted by clicking on the following Web link: https://secure.commentworks.com/FTC-IDTSurvey and following the instructions on the Web-based form. To ensure that the Commission considers an electronic comment, you must file it on the Web-based form at the https://secure.commentworks.com/FTC-IDTSurvey Web link. If this notice appears at http://www.regulations.gov, you may also file an electronic comment through that Web site. The Commission will consider all comments that regulations.gov forwards to it.

The FTC Act and other laws the Commission administers permit the collection of public comments to consider and use in this proceeding as appropriate. All timely and responsive public comments will be considered by the Commission and will be available to the public on the FTC Web site, to the extent practicable, at www.ftc.gov. As a matter of discretion, the FTC makes every effort to remove home contact information for individuals from the public comments it receives before placing those comments on the FTC Web site. More information, including routine uses permitted by the Privacy Act, may be found in the FTC's privacy policy at http://www.ftc.gov/ftc/privacy.htm.

FOR FURTHER INFORMATION CONTACT: Requests for additional information should be addressed to Joanna P. Crane, Program Manager, Federal Trade Commission ID Theft Program, 600 Pennsylvania Avenue, NW., Washington, DC 20580, (202) 326-3228.

SUPPLEMENTARY INFORMATION: Under the PRA, Federal agencies must obtain approval from OMB for each collection of information they conduct or sponsor. “Collection of information” means agency requests or requirements that members of the public submit reports, keep records, or provide information to a third party. 44 U.S.C. 3502(3), 5 CFR 1320.3(c). In 2003, OMB approved the FTC's request to conduct a survey on ID Theft and assigned OMB Control Number 3084-0124. The FTC completed the consumer research in April 2003 and issued its report, Federal Trade Commission—Identity Theft Survey Report, in September 2003.² As required by section 3506(c)(2)(A) of the PRA, the FTC is providing this opportunity for public comment before requesting that OMB reinstate the clearance for the survey, which expired in June 2003.

² The Report is available at http://www.ftc.gov/os/2003/09/synovatereport.pdf.

The FTC invites comments on: (1) Whether the proposed collections of information are necessary for the proper performance of the functions of the FTC, including whether the information will have practical utility; (2) the accuracy of the FTC's estimate of the burden of the proposed collections of information; (3) ways to enhance the quality, utility, and clarity of the information to be collected; and (4) ways to minimize the burden of collecting information on those who are to respond, including through the use of appropriate automated, electronic, mechanical, or other technological collection techniques or other forms of information technology, e.g., permitting electronic submission of responses. All comments should be filed as prescribed in the ADDRESSES section above, and must be received on or before October 24, 2005.

1. Description of the Collection of Information and Proposed Use

The FTC proposes to survey up to 5,000 consumers in order to gather specific information on the incidence of ID Theft in the general population. All information will be collected on a voluntary basis, and the identities of the consumers will remain confidential. Subject to OMB approval for the survey, the FTC has contracted with a consumer research firm to identify consumers and conduct the survey. The results will assist the FTC in determining the incidence of ID Theft in the general population and whether the type and frequency of ID Theft is changing, and will inform the FTC about how best to combat ID Theft.

ID Theft has been the top consumer complaint reported to the FTC since calendar year 2000. The information collected by the survey will ensure that the FTC has accurate and timely information on the extent of ID Theft and its impact on victims. This information will be highly useful to Congress and others who often request statistical information on ID Theft from the FTC.

The FTC intends to use a larger sample size than the 2003 survey to allow for a more in-depth analysis of the resulting data. The additional data points will allow for statistically significant samples for particular types of ID Theft and particular demographic characteristics. The questions will be very similar to the 2003 survey so that the results from the 2003 survey can be used as a baseline for a time-series analysis.³ The FTC may choose to conduct another follow-up survey in approximately two years.

³ The questionnaire for the 2003 survey is available as Appendix A to the Report.

2. Estimated Hours Burden

The FTC will pretest the survey on approximately 100 respondents to ensure that all questions are easily understood. This pretest will take approximately 3 minutes on average per person and 5 hours as a whole (100 respondents × 3 minutes each). Based on FTC staff's experience with the 2003 survey, the staff estimates that approximately 12 percent of those interviewed will have experienced ID Theft within the last 5 years. Survey participants who have not experienced ID Theft in this period of time will only be asked the initial 4 or 5 survey questions. The staff expects that this will take less than 2 minutes. For those who have experienced ID Theft in the last 5 years, our experience with the earlier survey suggests that it will take about 12 to 15 minutes to complete the survey. The staff therefore anticipates that the average time per survey participant will be approximately 3 minutes. Answering the consumer survey will require approximately 250 hours as a whole (5,000 respondents × 3 minutes each). Thus, cumulative total burden hours for the first year of the clearance will approximate 255 hours.

3. Estimated Cost Burden

The cost per respondent should be negligible. Participation is voluntary and will not require start-up, capital, or labor expenditures by respondents.

Christian S. White,
Acting General Counsel.

[FR Doc. 05-16888 Filed 8-24-05; 8:45 am]

BILLING CODE 6750-01-P